DEPARTMENT OF TRANSPORTATION

Surface Transportation Board

[STB Docket No. MC—F-21030]

Stagecoach Group PLC and Coach USA, Inc., et al.—Acquisition of Control—New Today Bus Corp. and New Today Bus, Inc.

AGENCY: Surface Transportation Board, DOT.

ACTION: Notice Tentatively Approving Finance Transaction.

SUMMARY: Stagecoach Group PLC (Stagecoach), a noncarrier, its noncarrier intermediate subsidiaries (Stagecoach Transport Holdings plc, SCUSI Ltd., Coach USA Administration, Inc.), Coach USA, Inc. (Coach USA), and ASTI, Inc. d/b/a Coach USA (ASTI), a motor passenger carrier (MC-252353) controlled by Coach USA (collectively, applicants), have filed an application under 49 U.S.C. 14303 for acquisition and operation of certain assets of New Today Bus Corp. (MC-651183) and New Today Bus, Inc. (MC-657415) (collectively, New Today). Upon acquisition, New Today will cease operations and ASTI will assume such operations. The Board has tentatively approved the transaction, and if no opposing comments are timely filed, this notice will be the final Board action. Persons wishing to oppose the application must follow the rules under 49 CFR 1182.5 and 1182.8.

DATES: Comments must be filed by December 18, 2008. Applicants may file a reply by January 2, 2009. If no comments are filed by December 18, 2008, this notice is effective on that date.

ADDRESSES: Send an original and 10 copies of any comments referring to STB Docket No. MC-F-21030 to: Surface Transportation Board, 395 E Street, SW., Washington, DC 20423-0001. In addition, send one copy of comments to the Applicants' representatives: David H. Coburn and Scott M. Mirelson, Steptoe & Johnson, LLP, 1330 Connecticut Avenue, NW., Washington, DC 20036.

FOR FURTHER INFORMATION CONTACT: Julia M. Farr, (202) 245-0359 [Federal Information Relay Service (FIRS) for the hearing impaired: 1-800-877-8339].

SUPPLEMENTARY INFORMATION: Stagecoach, headquartered in Scotland, is one of the world's largest providers of passenger transportation services. It operates in several countries, including the United States, through a series of operating divisions. Coach USA is a Delaware corporation that currently controls numerous passenger carriers, including ASTI, one of the subjects of this transaction.¹ Coach USA acquired control of ASTI in 1996. ASTI is currently seeking FMCSA approval to operate New Today's regular routes, including: (1) Between New York, NY, and Washington, DC; (2) New York and Baltimore, MD; and (3) New York and Philadelphia, PA. ASTI also plans to change its official name from ASTI d/b/a Coach USA to ASTI d/b/a Todays Bus.

¹ Together, Stagecoach and Coach USA control 65 motor passenger carriers. Stagecoach and Coach USA have also received tentative authority to control an additional motor passenger carrier in Stagecoach Group PLC and Coach USA, Inc., et al.—Acquisition of Control-Eastern Travel & Tour, Inc., STB Docket No. MC—F-21029 (STB served Sept. 18, 2008).

Under the proposed transaction, applicants seek permission to acquire certain assets of New Today, including New Today's customer lists, certain contracts, sales records, certain leases and tangible property, as well as certain trademarks and trade names, including “Today's Bus,” “Todays Bus,” and “New Today Bus.” New Today currently provides regular route service between several points in the Mid-Atlantic States, as described above. The proposed transaction contemplates the cessation of operations by New Today on these and other routes. Utilizing New Today's assets in combination with ASTI's, applicants state that there will be a seamless continuation of services previously provided by New Today through ASTI.

Under 49 U.S.C. 14303, the Board must approve and authorize a transaction it finds consistent with the public interest, taking into consideration at least: (1) The effect of the transaction on the adequacy of transportation to the public; (2) the total fixed charges that result; and (3) the interest of affected carrier employees. Applicants have submitted information, as required by 49 CFR 1182.2, including the information to demonstrate that the proposed transaction is consistent with the public interest under 49 U.S.C. 14303(b), and a statement that the 12-month aggregate gross operating revenues of all motor carrier parties and all motor carriers controlling, controlled by, or under common control with any party exceeded $2 million. Applicants state that the proposed transaction will have no impact on the adequacy of transportation services available to the public inasmuch as the operations of New Today will remain unchanged, and that fixed charges associated with the proposed transaction will not be adversely impacted. Applicants state that ASTI is evaluating its employment needs with a view to employing qualified personnel that are currently employed by New Today to operate the relevant services. Additional information, including a copy of the application, may be obtained from the applicants' representatives.

On the basis of the application, the Board finds that the proposed acquisition of assets is consistent with the public interest and should be authorized. If any opposing comments are timely filed, this finding will be deemed vacated and, unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered:

1. The proposed finance transaction is approved and authorized, subject to the filing of opposing comments.

2. If timely opposing comments are filed, the findings made in this notice will be deemed as having been vacated.

3. This notice will be effective December 18, 2008, unless timely opposing comments are filed.

4. A copy of this decision will be served on: (1) U.S. Department of Transportation, Federal Motor Carrier Safety Administration, 1200 New Jersey Avenue, SE., Washington, DC 20590; (2) the U.S. Department of Justice, Antitrust Division, 10th Street & Pennsylvania Avenue, NW., Washington, DC 20530; and (3) the U.S. Department of Transportation, Office of the General Counsel, 1200 New Jersey Avenue, SE., Washington, DC 20590.

Decided: October 27, 2008.
By the Board, Chairman Nottingham, Vice Chairman Mulvey, and Commissioner Buttrey.
Jeff Herzig,
Clearance Clerk.

[FR Doc. E8-26126 Filed 10-31-08; 8:45 am]

BILLING CODE 4915-01-P